DEPARTMENT OF HOUSING AND URBAN DEVELOPMENT

[Docket No. FR-4950-C-34A]

Notice of HUD's Fiscal Year (FY) 2005 Notice of Funding Availability Policy Requirements and General Section to SuperNOFA for HUD's Discretionary Grant Programs; Rural Housing and Economic Development Program NOFA; Competition Reopening Announcement

AGENCY: Office of the Secretary, HUD.

ACTION: Super Notice of Funding Availability (SuperNOFA) for HUD Discretionary Grant Programs; Rural Housing and Economic Development Program NOFA; competition reopening announcement.

SUMMARY: On March 21, 2005, HUD published its Fiscal Year (FY) 2005, Notice of Funding Availability (NOFA) Policy Requirements and General Section to the SuperNOFA for HUD's Discretionary Grant Programs. The Rural Housing and Economic Development Program NOFA competition, which was included in the SuperNOFA, closed on May 17, 2005. This document announces the reopening of the Rural Housing and Economic Development Program NOFA competition.

DATES: The new application submission date for the Rural Housing and Economic Development Program is July 11, 2005.

FOR FURTHER INFORMATION CONTACT: Mr. Thann Young, Community Planning and Development Specialist, or Ms. Linda L. Streets, Community Development Specialist, Office of Rural Housing and Economic Development, Office of Community Planning and Development, Department of Housing and Urban Development, 451 Seventh Street, SW., Room 7137, Washington, DC 20410-7000; telephone 202-708-2290 (this is not a toll-free number). Persons with speech or hearing impairments may access this number via TTY by calling the toll-free Federal Information Relay Service at 800-877-8339.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The Rural Housing and Economic Development Program, which was included in the SuperNOFA, made approximately $23.8 million available in HUD assistance. According to the SuperNOFA, the application submission date for the Rural Housing and Economic Development Program NOFA was May 17, 2005. On May 11, 2005 (70 FR 24835), HUD published a technical correction to the Rural Housing and Economic Development Program NOFA making clear that the competition's application submission date was May 17, 2005. On May 11, 2005 (70 FR 24835), HUD also published additional guidance to the General Section, which included a link to Frequently Asked Questions, located at http://grants.gov/ForApplicants#. Frequently asked questions can also be found on the HUD Web site at http://www.hud.gov/offices/adm/grants/egrants/grantsgovfaqs.pdf.

HUD understands that many eligible applicants may have had difficulty submitting their applications or had not completed their grants.gov registration. Therefore, in order to give all NOFA applicants sufficient time to submit completed electronic applications and complete the registration process for grants.gov electronic submission, this notice published in today's Federal Register reopens the Rural Housing and Economic Development Program NOFA competition. The new application submission date for the Rural Housing and Economic Development Program NOFA competition is July 11, 2005.

Applicability of SuperNOFA General Section and Rural Housing and Economic Development Program NOFA Requirements to Reopened Competition

Please note that the Rural Housing and Economic Development Program NOFA competition description, application submission information, and application review information were published in HUD's Notice of HUD's Fiscal Year (FY) 2005, Notice of Funding Availability (NOFA) Policy Requirements and General Section to the SuperNOFA for HUD's Discretionary Grant Programs, on March 21, 2005 (70 FR 13575). With the exception of the new deadline date for applications, all requirements listed in the General Section and in the Rural Housing and Economic Development Program NOFA are applicable to this reopened competition.

Submission Instructions

If you have already submitted an application, you do not need to resubmit another application. If you submitted a paper application, however, without first obtaining a waiver from the electronic submission requirement, you must resubmit your applications electronically, unless you obtain a waiver, as noted below. In any case, if you choose to make any changes to an application already submitted, you must resubmit a completely new application. For the purpose of rating and ranking, HUD will review the most recent application and disregard any earlier submitted application.

Waiver of Electronic Submission Requirement

If you are unable to submit your application electronically and must submit a paper application, you may request a waiver from this requirement. Your waiver request must be in writing and state the basis for the request and explain why electronic submission is not possible. The waiver request should also include an applicant's e-mail, name, and mailing address of the organization where responses can be directed. Waiver requests must be submitted to Pamela Patenaude, Assistant Secretary for Community Planning and Development, and waiver requests may be submitted by e-mail to rhed@hud.gov, by fax to (202) 708-3363, or by letter to: U.S. Department of Housing and Urban Development, Attention: Pamela Patenaude, Assistant Secretary for Community Planning and Development, 451 Seventh Street, SW., Room 7100, Washington, DC 20410. The waiver request should also include an applicant's e-mail or name and mailing address where responses can be directed. All waiver requests must be received by HUD no later than June 9, 2005. Thus, in order to ensure your waiver request is received, you must submit your waiver request by e-mail, fax, or letter as soon as possible. The basis for waivers for cause may include but are not limited to (a) lack of available Internet access in the geographic location in which the applicant's business office is located or (b) physical disability of the applicant that prevents the applicant from accessing or responding to the application electronically.

Dated: May 20, 2005.
Pamela Patenaude,
Assistant Secretary for Community Planning and Development.

[FR Doc. 05-10557 Filed 5-24-05; 8:45 am]

BILLING CODE 4210-29-P